DEPARTMENT OF THE INTERIOR

Office of Surface Mining Reclamation and Enforcement

Watershed Cooperative Agreement Program

AGENCY: Office of Surface Mining Reclamation and Enforcement, Interior.

ACTION: Notice of availability of funds for the Watershed Cooperative Agreement Program.

SUMMARY: The Office of Surface Mining Reclamation and Enforcement (OSM) of the U.S. Department of the Interior is announcing its intent to solicit applications from eligible, not-for-profit candidates for funding under the Watershed Cooperative Agreement Program to undertake local acid mine drainage reclamation projects.

DATES: Applications for the cooperative agreements should be submitted to the appropriate individual listed under ADDRESSES and FURTHER INFORMATION starting February 12, 2002. Applications will be accepted until all available funds have been awarded.

ADDRESSES and FURTHER INFORMATION: Requests for an application package, which includes further information on the program, the application forms and evaluation criteria, should be directed to the appropriate Appalachian Clean Streams Coordinator: Alabama: Jeannie O'Dell, Birmingham Field Office, 135 Gemini Circle, Suite 215, Homewood, AL 35209, Telephone 205-290-7282, ext. 21; Illinois: Ken Foit, Indianapolis Field Office, Minton-Capehart Federal Building, 575 N. Pennsylvania Street, Room 392, Indianapolis, IN 46204, Telephone 317-226-6166 ext. 229; Indiana: Michael Kalagian, Indianapolis Field Office, Minton-Capehart Federal Building, 575 N. Pennsylvania Street, Room 392, Indianapolis, IN 46204, Telephone 317-226-6166 ext. 234; Iowa: Perry Pursell, Mid-Continent Regional Coordinating Center, Alton Federal Center, 501 Belle Street, Room 216, Alton, IL 62002, Telephone 618-463-6463 ext. 108; Kentucky: Dave Beam, Lexington Field Office, 2675 Regency Road, Lexington, KY 40503, Telephone 859-260-8400 ext. 241; Maryland: Peter Hartman, Appalachian Regional Coordinating Center, 3 Parkway Center, Pittsburgh, PA 15220, Telephone 412-937-2905; Missouri: Perry Pursell, Mid-Continent Regional Coordinating Center, Alton Federal Center, 501 Belle Street, Room 216, Alton, IL 62002, Telephone 618-463-6463 ext. 108; Ohio: Max Luehrs, Columbus Area Office, 4480 Refugee Road, Suite 201, Columbus, OH 43232, Telephone 614-866-0578 ext. 110; Oklahoma: Daniel Trout, Tulsa Field Office, 5100 East Skelly Drive S-550, Tulsa, OK 74135, Telephone 918-581-6431 ext. 25; Pennsylvania: David Hamilton, Harrisburg Field Office, 415 Market Street, Suite 3, Harrisburg, PA 17101, Telephone 717-782-2285 ext. 15; Tennessee: Danny Ellis, Knoxville Field Office, 530 Gay Street, Suite 500, Knoxville, TN 37902, Telephone 865-545-4103 ext. 147; Virginia: Ronnie Vicars, Big Stone Gap Field Office, 1941 Neeley Road, Suite 201, Compartment 116, Big Stone Gap, VA 24219, Telephone 276-523-0024 ext. 33; West Virginia: Rick Buckley, Charleston Field Office, 1027 Virginia Street East, Charleston, WV 25301, Telephone 304-347-7162 ext. 3024.

SUPPLEMENTARY INFORMATION: For Fiscal Year 2002, OSM expects to award up to 2.7 million dollars to eligible not-for-profit groups to undertake actual construction projects to clean up streams impacted by acid mine drainage. The maximum award amount for each cooperative agreement normally will be $100,000. The cooperative agreements will have a performance period of two years. The funds primarily are to be used for the construction phase of the project; however, any cost (administrative or construction) associated with the completion of the project is allowable. The requested OSM funding should be the final amount necessary to complete the project. There must be demonstrated public support for the project.

Eligible applicants are not-for-profit, established organizations with IRS 501(c)(3) status. Applicants must have other partners, contributing either the funding or in-kind services needed to complete the project.

Projects in the following States are eligible: Alabama, Illinois, Indiana, Iowa, Kentucky, Maryland, Missouri, Ohio, Oklahoma, Pennsylvania, Tennessee, Virginia and West Virginia. Projects must meet eligibility criteria for coal projects outlined in Section 404 of the Surface Mining Control and Reclamation Act of 1977:

Lands and water eligible for reclamation or drainage abatement expenditures under this title are those which were mined for coal or which were affected by such mining, wastebanks, coal processing, or other coal mining processes * * * and abandoned or left in an inadequate reclamation status prior to the date of enactment of this Act [August 3, 1977], and for which there is no continuing reclamation responsibility under State or other Federal laws.

The project must produce tangible results, e.g., fishery restored, stream miles improved, educational and community benefits, pollutants removed from the streams. There must be a plan to address any ongoing operation/maintenance considerations.

Two copies of a complete application should be submitted to the appropriate Appalachian Clean Streams Coordinator identified under ADDRESSES and FURTHER INFORMATION. Awards are subject to the availability of funds. Applications will receive technical and financial management reviews.

Dated: January 15, 2002.
Glenda Owens,
Acting Director, Office of Surface Mining Reclamation and Enforcement.

[FR Doc. 02-3338 Filed 2-11-02; 8:45 am]

BILLING CODE 4310-05-M